SECURITIES AND EXCHANGE COMMISSION

[File No. 500-1]

In the Matter of UC Hub Group, Inc.; Order of Suspension of Trading

April 19, 2013.

It appears to the Securities and Exchange Commission that there is a lack of current and accurate information concerning the securities of UC Hub Group, Inc. (“UC Hub”) because it has not filed a periodic report since it filed its Form 10-Q for the period ending April 30, 2010, filed on June 14, 2010.

The Commission is of the opinion that the public interest and the protection of investors require a suspension of trading in the securities of UC Hub. Therefore, it is ordered, pursuant to Section 12(k) of the Exchange Act, that trading in the securities of UC Hub is suspended for the period from 9:30 a.m. EDT on April 19, 2013, through 11:59 p.m. EDT on May 2, 2013.

By the Commission.
Elizabeth M. Murphy,
Secretary.

[FR Doc. 2013-09636 Filed 4-19-13; 4:15 pm]

BILLING CODE 8011-01-P